DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Bureau of Labor Statistics (BLS) is soliciting comments concerning the proposed reinstatement of the “Current Population Survey (CPS) Displaced Worker, Job Tenure, and Occupational Mobility Supplement,” to be conducted in January 2002. A copy of the proposed information collection request (ICR) can be obtained by contacting the individual listed below in the addresses section of this notice.

DATES: Written comments must be submitted to the office listed in the addresses section of this notice on or before August 20, 2001.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See Addresses section.)

SUPPLEMENTARY INFORMATION:

I. Background

The January 2002 Current Population Survey (CPS) supplement concerning Displaced Workers, Job Tenure, and Occupational Mobility is sponsored by the Department of Labor, Employment and Training Administration (ETA). The supplement was previously conducted in conjunction with the February 2000 CPS. The information will be used to determine the size and nature of the population affected by job displacements and, hence, the needs and scope of programs serving adult displaced workers. The information collected also will be used to assess employment stability by determining the length of time workers have been with their current employer and estimating the incidence of occupational change over the course of a year. In addition, data on job tenure for all workers are needed to calculate the incidence of displacement among various worker groups so that comparisons can be made over time and among different affected groups. Combining the questions on displacement, job tenure, and occupational mobility will enable analysts to obtain a more complete picture of employment stability.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the CPS Displaced Worker, Job Tenure, and Occupational Mobility Supplement.

Type of Review: Reinstatement, with change, of a previously approved collection for which approval has expired.

Agency: Bureau of Labor Statistics.

Title: CPS Displaced Worker, Job Tenure, and Occupational Mobility Supplement.

OMB Number: 1220-0104.

Affected Public: Households.

Total Respondents: 58,000.

Frequency: Biennially.

Total Responses: 58,000.

Average Time Per Response: 9 minutes.

Estimated Total Burden Hours: 8,700 hours.

Total Burden Cost (capital/startup): $0.

Total Burden Cost (operating/maintenance): $0.

Comments submitted in response to this notice will be summarized and/or included in the request for Office of Management and Budget approval of the information collection request; they also will become a matter of public record.

Signed at Washington, D.C., this 11th day of June, 2001.
Jesús Salinas,
Acting Chief, Division of Management Systems, Bureau of Labor Statistics.

[FR Doc. 01-15637 Filed 6-20-01; 8:45 am]

BILLING CODE 4510-24-P